DEPARTMENT OF LABOR

Mine Safety and Health Administration

Petitions for Modification of Existing Mandatory Safety Standards

AGENCY: Mine Safety and Health Administration (MSHA), Labor.

ACTION: Notice.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before October 20, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2010-033-C.

Petitioner: Matrix Energy, LLC, Mine No. 1, MSHA I.D. No. 15-18575; Coalburg Enterprises, Inc., Mine No. 8, MSHA I.D. No. 15-19494; and Eagle Coal Company, Inc., Mine No. 22, MSHA I.D. No. 15-16663 and Mine No. 24, MSHA I.D. No. 15-19296, Rt. 292, P.O. Box 190, Lovely, Kentucky 41231. All of these mines are located in Martin County, Kentucky.

Regulation Affected: 30 CFR 75.208 (Warning devices).

Modification Request: The petitioner requests a modification of the existing standard to that portion of the standard requiring the end of permanent roof support to be posted with readily visible warning. The petitioner states that: (1) A greater degree of safety is provided for the miner by hanging the reflector on the second row, rather than on the first row of permanent support outby unsupported roof; and (2) hanging the reflector on the first row would subject a portion of the miner's body inby supported roof, which could result in a serious injury. Therefore, the petitioner requests to hang the reflector on the second row of permanent support outby unsupported roof. The petitioner asserts that the proposed alternative method will at all times comply with the safety standard and guarantee greater protection than the existing standard.

Docket Number: M-2010-034-C.

Petitioner: Four O Mining Corporation, P.O. Box 148, Vansant, Virginia 24656 .

Mine: No. 10 Mine, MSHA I.D. No. 44-07217, located in Dickenson County, Virginia.

Regulation Affected: 30 CFR 75.1101-2 (Installation of deluge-type sprays).

Modification Request: The petitioner requests a modification of the existing standard to permit an alternative method of compliance in lieu of providing a fire suppression system on the belt drive, as it pertains to 50 foot coverage of fire suppression. The petitioner requests this modification because of the Fairchild continuous miner and the rapid haul that travels up and down from near the belt drive to the end. To ensure safety, the petitioner proposes to put one man with a CO Detector with a 1-1/2 inch fire hose with a firefighting nozzle hooked up at all times until the 50 foot distance is established from the belt drive to the rapid haul. The petitioner asserts that the proposed alternative method will provide a measure of protection equal to or greater than that of the existing standard.

Dated: September 14, 2010.
Patricia W. Silvey,
Director, Office of Standards, Regulations and Variances.

[FR Doc. 2010-23324 Filed 9-17-10; 8:45 am]

BILLING CODE 4510-43-P